DEPARTMENT OF JUSTICE

Notice of Lodging of Consent Decree Under the Clean Air Act

In accordance with 28 CFR 50.7, notice is hereby given that the Department of Justice will receive comments on a proposed amended Consent Decree in United States v. Gopher State Ethanol, Inc., (“Gopher State”), Civil Action No. CV02-3793 JEL/RLE, through July 7, 2003. The amended Consent Decree was lodged with the United States District Court for the District of Minnesota on May 22, 2003. Notice of the lodging was published in the Federal Register on June 5, 2003 (Volume 68, Number 108, Page 33740).

By this notice the comment period is extended to July 7, 2003. Comments should be addressed to the Assistant Attorney General, Environment and Natural Resources Division, P.O. Box 7611, U.S. Department of Justice, Washington, DC 20044-7611, and should refer to: United States v. Gopher State Ethanol, Inc., D.J. Ref. 90-5-2-1-07784/8.

The amended Consent Decree may be examined at the Office of the Attorney General, NCL Towers Suite 900, 445 Minnesota Street, St. Paul, MN 55101-2127, and at U.S. EPA Region 5, 77 West Jackson Blvd., Chicago, IL 60604. During the public comment period the ADM Consent Decree may also be examined on the following Department of Justice Web site, http://www.usdoj.gov/enrd/open.html. A copy of the Consent Decree, may also be obtained by mail from the Consent Decree Library, PO Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $9.75 (25 cents per page reproduction cost) payable to the U.S. Treasury.

Catherine McCabe,
Deputy Chief, Environmental Enforcement Section, Environment and Natural Resources Division.

[FR Doc. 03-16072 Filed 6-24-03; 8:45 am]

BILLING CODE 4410-15-M